NATIONAL ARCHIVES AND RECORDS ADMINISTRATION

Nixon Presidential Historical Materials: Opening of Materials

AGENCY: National Archives and Records Administration (NARA).

ACTION: Notice of opening of additional Presidential materials.

SUMMARY: The National Archives and Records Administration's (NARA) Richard Nixon Presidential Library and Museum is opening additional Nixon Presidential Historical Materials for public access. These materials include previously restricted materials and select White House Central Files, Name Files. In accordance with section 104 of Title I of the Presidential Recordings and Materials Preservation Act (PRMPA, 44 U.S.C. 2111 note) and § 1275.42(b) of the regulations implementing the Act (36 CFR part 1275), NARA has identified, inventoried, and prepared for public access these additional textual materials with certain information redacted as required by law, including the PRMPA.

DATES: The materials described in this notice will be available to the public on Wednesday, May 20, 2015, beginning at 9:30 a.m. PDT (12:30 p.m. EDT).

In accordance with 36 CFR 1275.44, any person who believes it necessary to file a claim of legal right or privilege concerning access to these materials must notify the Archivist of the United States in writing of the claimed right, privilege, or defense by May 18, 2015.

ADDRESSES: The materials will be available for viewing at the Richard Nixon Presidential Library and Museum; 18001 Yorba Linda Blvd.; Yorba Linda, CA. Selections from these materials will also be available online at www.nixonlibrary.gov.

You must send any petition asserting a legal or constitutional right or privilege that would prevent or limit public access to the materials to The Archivist of the United States; National Archives at College Park; 8601 Adelphi Rd.; College Park, Maryland 20740-6001.

FOR FURTHER INFORMATION CONTACT: Gregory Cumming, Richard Nixon Presidential Library and Museum, by telephone at 714-983-9131.

SUPPLEMENTARY INFORMATION: Researchers must have a NARA researcher card to view the materials; you may obtain a card when you arrive at the Library.

Description of Materials

The following materials will be made available in accordance with this notice:

1. Previously restricted textual materials. Volume: 2 cubic feet. A number of textual materials previously withheld from public access have been reviewed for release or declassified under the systematic declassification review provisions and under the mandatory review provisions of Executive Order 13526, the Freedom of Information Act (5 U.S.C. 552), or in accordance with 36 CFR 1275.56 (Public Access regulations). The materials are from integral file segments for the National Security Council (NSC Files and NSC Institutional Files); along with Henry A. Kissinger (HAK) Office Files; Kissinger Telephone Conversation Transcripts; the White House Special Files; and White House Central Files.

2. White House Central Files, Name Files: Volume: 4.5 cubic feet. The Name Files were used for routine materials filed alphabetically by the name of the correspondent; copies of documents in the Name Files were usually filed by subject in the Subject Files.

Brosk

Brown, Robert H-K

Brown, William H-K

Bryant, We

Bush, G

Bush, George (Cong.)

Gov. Jimmy Carter

Hon. Fletcher, Arthur (Art)

Ford, Gerald

Ford, Gerald (Cong.)

Goldwater, Barry (Cong.)

Goldwater, Barry (Sen.)

Hoover, J. Edgar

Humphrey, Hubert

Kerne

Linkletter, Art

Luce, Clare Booth

Marriott, J. Willard (Bill)

McGovern, George S. (Sen)

McHugh, A-E

Meade, R.

Meany, George (Hon)

Murphy, Mr. Audie

Nesse

Orm

Patman, Wright (Cong.)

Payton, Q-T

Pelles

Peric

Proxmire, William (Sen.)

Wayne, John (Duke)

Dated: April 10, 2015.
David S. Ferriero,
Archivist of the United States.

[FR Doc. 2015-08850 Filed 4-16-15; 8:45 am]

BILLING CODE 7515-01-P